DEPARTMENT OF TRANSPORTATION

Federal Aviation Administration

RTCA Special Committee 189/EUROCAE Working Group 53: Air Traffic Services (ATS) Safety and Interoperability Requirements

AGENCY: Federal Aviation Administration (FAA), DOT.

ACTION: Notice of RTCA Special Committee 189/EUROCAE Working Group 53 meeting.

SUMMARY: The FAA is issuing this notice to advise the public of a meeting of RTCA Special Committee 189/EUROCAE Working Group 53: Air Traffic Services (ATS) Safety and Interoperability Requirements.

DATES: The meeting will be held June 23-27, 2003 starting at 9 a.m.

ADDRESSES: The meeting will be held at the Honeywell Learning Center, 14980 NE 31st Circle, Redmond, WA 98052

FOR FURTHER INFORMATION CONTACT: (1) RTCA Secretariat, 1828 L Street, NW., Suite 805, Washington, DC, 20036; telephone (202) 833-9339; fax (202) 833-9434; Web site http://www.rica.org; (2) Honeywell Contact, Christophe Hamel; telephone 536-886-8336; fax 602-436-5575; e-mail christophe.hamel@Honeywell.com.

SUPPLEMENTARY INFORMATION: Pursuant to section 10(a)(2) of the Federal Advisory Committee Act (Pub. L. 92-463, 5 U.S.C., Appendix 2), notice is hereby given for a Special Committee 189/EUROCAE Working Group 53 meeting. The agenda will include:

• June 23:

• Opening Plenary Session (Welcome and Introductory Remarks, Review/Approval of Meeting Agenda, Review/Approval of Meeting Minutes)

• Sub-group and related reports; Position papers planned for plenary agreement; SC-189/WG-53 co-chair progress report

• June 24-26:

• Sub-group Meetings

• Review and resolve comments on PU-26 V3.0, Safety and Performance Requirements Standard for Initial Air Traffic Data Link Services in Continental Airspace (SPR IC)

• Continue work on Safety and Performance Requirements Standard for Initial Air Traffic Data Link Services in Oceanic Airspace (SPR IO)

• Continue Interoperability Work

• June 27:

• Closing Plenary Session (Welcome and Introductory Remarks, Review/Approval of Meeting Agenda)

• Sub-group and related reports; Position papers planned for plenary agreement; SC-189/WG-53 co-chair progress report and wrap-up

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 28, 2003.
Janice L. Peters,
FAA Special Assistant, RTCA Advisory Committee.

[FR Doc. 03-14164 Filed 6-4-03; 8:45 am]

BILLING CODE 4910-13-M